DEPARTMENT OF COMMERCE

International Trade Administration

[A-427-098]

Anhydrous Sodium Metasilicate from France: Notice of Final Results of Antidumping Duty Administrative Review

AGENCY: Import Administration, International Trade Administration, Department of Commerce.

ACTION: Notice of Final Results of Antidumping Duty Administrative Review.

SUMMARY: On August 10, 2001, the Department of Commerce published the preliminary results of its administrative review of the antidumping duty order on anhydrous sodium metasilicate from France for sales made by Rhone-Poulenc, S.A., for the period January 1, 2000, through December 31, 2000. We gave interested parties an opportunity to comment on the preliminary results of review but received no comments. Therefore, these final results of review have not changed from those presented in the preliminary results of review, in which we applied total adverse facts available.

EFFECTIVE DATE: October 22, 2001.

FOR FURTHER INFORMATION CONTACT: Dunyako Ahmadu or Richard Rimlinger, Office of Antidumping/Countervailing Duty Enforcement, Office 3, Import Administration, International Trade Administration, U.S. Department of Commerce, 14th Street and Constitution Avenue, NW., Washington, DC 20230; telephone (202) 482-0198 or (202) 482-4477, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to the regulations codified at 19 CFR Part 351 (2001).

Background

On August 10, 2001, the Department published in the Federal Register (66 FR 42199) the preliminary results of the review of this order. In the preliminary results, we determined the weighted-average dumping margin for the period January 1, 2000, through December 31, 2000 to be 60.00 percent. We gave interested parties an opportunity to comment on our preliminary results. We received no comments. The Department has now completed the administrative review in accordance with section 751 of the Act.

Scope of the Order

Imports covered by the order are shipments of anhydrous sodium metasilicate, a crystallized silicate which is alkaline and readily soluble in water. Applications include waste paper de-inking, ore-flotation, bleach stabilization, clay processing, medium or heavy duty cleaning, and compounding into other detergent formulations. This merchandise is classified under the Harmonized Tariff Schedules of the United States (HTSUS) item numbers 2839.11.00 and 2839.19.00. The HTSUS item numbers are provided for convenience and customs purposes. The written description remains dispositive.

Final Results of the Review

We received no comments from interested parties, and we have determined that no changes to the preliminary results are warranted for purposes of these final results. The weighted-average dumping margin for Rhone-Poulenc, S.A., for the period January 1, 2000, through December 31, 2000, is 60.00 percent.

The Department will issue appraisement instructions for Rhone-Poulenc merchandise directly to the Customs Service.

Furthermore, the following deposit rates will be effective upon publication of these final results for all shipments of the subject merchandise entered, or withdrawn from warehouse, for consumption on or after the publication date as provided for by section 751(a)(1) of the Act: (1) The cash deposit rate for Rhone-Poulenc, S.A., will be 60.00 percent; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) for all other producers and/or exporters of this merchandise, the cash deposit rate shall be 60.0 percent, the “all others” rate established in the LTFV investigation (45 FR 77498, November 24, 1980). This deposit rate shall remain in effect until publication of the final results of the next administrative review.

Pursuant to 19 CFR 351.402(f)(2) this notice serves as a final reminder to importers of their responsibility to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective order (APO) of their responsibility concerning the disposition of proprietary information disclosed under APO in accordance with 19 CFR 351.305(a)(3). Timely notification of return or destruction of APO materials or conversion to judicial protective order is hereby requested. Failure to comply with the regulations and the terms of an APO is a sanctionable violation.

We are issuing and publishing this determination in accordance with sections 751(a)(1) and 777(i)(1) of the Act.

Dated: October 15, 2001.
Faryar Shirzad,
Assistant Secretary for Import Administration.

[FR Doc. 01-26548 Filed 10-19-01; 8:45 am]

BILLING CODE 3510-DS-P